NUCLEAR REGULATORY COMMISSION

[Docket No. 72-1051; NRC-2018-0055]

Holtec International's HI-STORE Consolidated Interim Storage Facility for Interim Storage of Spent Nuclear Fuel

AGENCY: Nuclear Regulatory Commission.

ACTION: License application; docketing.

SUMMARY: The U.S. Nuclear Regulatory Commission (NRC) received a license application from Holtec International (Holtec), by letter dated March 30, 2017, as supplemented on April 13, October 6, December 21, and 22, 2017; and February 22, 2018. By this application, Holtec is requesting authorization to construct and operate the HI-STORE Consolidated Interim Storage (CIS) Facility, in Lea County, New Mexico. If the NRC approves the application and issues a license to Holtec, Holtec intends to store up to 8,680 metric tons uranium (MTU) of commercial spent nuclear fuel in the HI-STORM UMAX Canister Storage System for a 40-year license term.

DATES: March 19, 2018.

ADDRESSES: Please refer to Docket ID NRC-2018-0055 when contacting the NRC about the availability of information regarding this document. You may obtain publicly-available information related to this document using any of the following methods:

• Federal Rulemaking Website: Go to http://www.regulations.gov and search for Docket ID NRC-2018-0055. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Jose R. Cuadrado, Office of Nuclear Material Safety and Safeguards, U.S. Nuclear Regulatory Commission, Washington, DC 20555-0001; telephone: 301-415-0606; email: Jose.Cuadrado@nrc.gov.

SUPPLEMENTARY INFORMATION:

I. Introduction

The NRC received an application from Holtec for a specific license pursuant to part 72 of title 10 of the Code of Federal Regulations (10 CFR), “Licensing Requirements for the Independent Storage of Spent Nuclear Fuel, High-Level Radioactive Waste, and Reactor-Related Greater Than Class C Waste.” Holtec is proposing to construct and operate the HI-STORE Consolidated Interim Storage (CIS) Facility on a large parcel of presently unused land owned by the Eddy-Lea Energy Alliance (ELEA), LLC. ELEA was formed in 2006 in accordance with enabling legislation passed in New Mexico and consists of an alliance of the city of Carlsbad, Eddy County, the city of Hobbs, and Lea County. The proposed site for the CIS facility is located in southeastern New Mexico in Lea County, 32 miles east of Carlsbad, New Mexico, and 34 miles west of Hobbs, New Mexico.

Holtec is proposing to construct and operate Phase 1 of the CIS facility within an approximately 1,040 acre parcel. Holtec is currently requesting authorization to possess and store 500 canisters of spent nuclear fuel (SNF) containing up to 8,680 metric tons of uranium (MTUs), which includes spent uranium-based fuel from commercial nuclear reactors, as well as a small quantity of spent mixed-oxide fuel. If the NRC issues the requested license, Holtec expects to subsequently request additional amendments to the initial license to expand the storage capacity of the facility. In its plans, Holtec proposes expanding the facility in 19 subsequent expansion phases, each for an additional 500 canisters, to be completed over the course of 20 years. Ultimately, Holtec anticipates that approximately 10,000 canisters of SNF would be stored at the CIS facility upon completion of 20 phases. Each phase would require NRC review and approval.

According to its application, Holtec intends to only use the HI-STORM UMAX Canister Storage System for storage of spent nuclear fuel canisters at the facility. The HI-STORM UMAX Canister Storage System stores the canister containing SNF entirely below-ground, providing a clear, unobstructed view of the entire CIS facility from any location.

An NRC administrative completeness review found the application complete and acceptable for docketing. The docket number established is 72-1051. The NRC will perform a detailed technical review of the application. Docketing of the application does not preclude the NRC from requesting additional information from the applicant as the review proceeds, nor does it predict whether the NRC will grant or deny the application. Prior to issuing the license, the NRC will need to make the findings required by the Atomic Energy Act of 1954, as amended (AEA), and the NRC's regulations. The NRC's findings will be documented in a safety evaluation report. In accordance with 10 CFR part 51, the NRC will also prepare an environmental impact statement for the proposed action. Pursuant to 10 CFR 51.26, and as part of the environmental scoping process, the NRC intends to hold a public scoping meeting. Detailed information regarding this meeting will be included in a future Federal Register notice. Additionally, the NRC will announce in a future Federal Register a notice of opportunity for hearing.

II. Availability of Documents

The documents identified in this Federal Register notice are accessible to interested persons in ADAMS under the accession numbers identified in the table below.

Title | ADAMS accession No.
Holtec International HI-STORE CIS License Application | ML17115A431
NRC request for supplemental information | ML17191A356 ML17191A478
Holtec letter with schedule for response to NRC request for supplemental information | ML17206A203
Holtec's October 6, 2017, information submittal in response to NRC request for supplemental information | ML17310A21
Holtec's December 21, 2017, information submittal in response to NRC request for supplemental information | ML17362A097
Holtec's December 22, 2017, information submittal in response to NRC request for supplemental information | ML18011A158
Holtec's February 22, 2018, information submittal in response to proprietary information determination | ML18058A617
NRC letter accepting application for review | ML18059A251

Dated at Rockville, Maryland, this 13th day of March 2018.
For the Nuclear Regulatory Commission.
John McKirgan,
Chief, Spent Fuel Licensing Branch, Division of Spent Fuel Management, Office of Nuclear Material Safety and Safeguards.

[FR Doc. 2018-05438 Filed 3-16-18; 8:45 am]

BILLING CODE 7590-01-P